DEPARTMENT OF COMMERCE

International Trade Administration

[A-570-049, C-570-050]

Ammonium Sulfate From the People's Republic of China: Antidumping Duty and Countervailing Duty Orders

AGENCY: Enforcement and Compliance, International Trade Administration, Department of Commerce.

SUMMARY: Based on affirmative final determinations by the Department of Commerce (“Department”) and the International Trade Commission (“ITC”), the Department is issuing antidumping duty (“AD”) and countervailing duty (“CVD”) orders on ammonium sulfate from the People's Republic of China (“PRC”).

DATES: Effective March 9, 2017.

FOR FURTHER INFORMATION CONTACT: Tom Martin (AD) at (202) 482-3936 or Robert Galantucci (CVD) at (202) 482-2923, AD/CVD Operations, Office IV, Enforcement and Compliance, U.S. Department of Commerce, 1401 Constitution Avenue NW., Washington, DC 20230.

SUPPLEMENTARY INFORMATION:

Background

In accordance with sections 705(d) and 735(d) of the Tariff Act of 1930, as amended (the “Act”), on January 17, 2017, and January 25, 2017, respectively, the Department published its affirmative final determination that countervailable subsidies are being provided to producers and exporters of ammonium sulfate from the PRC and its affirmative final determination of sales at less than fair value (“LTFV”).¹ On March 2, 2017, the ITC notified the Department of its final affirmative determination that an industry in the United States is materially injured by reason of LTFV imports and subsidized imports of ammonium sulfate from the PRC, within the meaning of sections 705(b)(1)(A)(i) and 735(b)(1)(A)(i) of the Act.²

¹ See Ammonium Sulfate from the People's Republic of China: Final Affirmative Countervailing Duty Determination, 82 FR 4850 (January 17, 2017) (“CVD Final Determination”); Ammonium Sulfate from the People's Republic of China: Final Affirmative Determination of Sales at Less Than Fair Value, 82 FR 8403 (January 25, 2017) (“AD Final Determination”).

² See Letter to Ronald Lorentzen, Acting Assistant Secretary of Commerce for Enforcement and Compliance, from Rhonda K. Schmidtlein, Chairman of the U.S. International Trade Commission, regarding antidumping and countervailing duty investigations concerning imports of ammonium sulfate from the People's Republic of China (Investigation Nos 701-TA-562 and 731-TA-1329), dated March 2, 2017 (“ITC Letter”).

Scope of the Orders

The merchandise covered by these orders is ammonium sulfate in all physical forms, with or without additives such as anti-caking agents. Ammonium sulfate, which may also be spelled as ammonium sulphate, has the chemical formula (NH4)2SO4.

The scope includes ammonium sulfate that is combined with other products, including by, for example, blending (i.e., mixing granules of ammonium sulfate with granules of one or more other products), compounding (i.e., when ammonium sulfate is compacted with one or more other products under high pressure), or granulating (incorporating multiple products into granules through, e.g., a slurry process). For such combined products, only the ammonium sulfate component is covered by the scope of these orders.

Ammonium sulfate that has been combined with other products is included within the scope regardless of whether the combining occurs in countries other than China.

Ammonium sulfate that is otherwise subject to these orders is not excluded when commingled (i.e., mixed or combined) with ammonium sulfate from sources not subject to these orders. Only the subject component of such commingled products is covered by the scope of these orders.

The Chemical Abstracts Service (“CAS”) registry number for ammonium sulfate is 7783-20-2.

The merchandise covered by these orders is currently classifiable under Harmonized Tariff Schedule of the United States (“HTSUS”) subheading 3102.21.0000. Although this HTSUS subheading and CAS registry number are provided for convenience and customs purposes, the written description of the scope of the orders is dispositive.

Antidumping Duty Order

In accordance with section 735(d) of the Act, the ITC has notified the Department of its final determination that an industry in the United States is materially injured within the meaning of section 735(b)(1)(A)(i) of the Act by reason of imports of ammonium sulfate that are sold in the United States at LTFV. Therefore, in accordance with section 735(c)(2) of the Act, we are publishing this antidumping duty order. Because the ITC determined that imports of ammonium sulfate from the PRC are materially injuring a U.S. industry, unliquidated entries of such merchandise from the PRC, entered or withdrawn from warehouse for consumption, are subject to the assessment of antidumping duties.

In accordance with section 736(a)(1) of the Act, the Department will direct U.S. Customs and Border Protection (“CBP”) to assess, upon further instruction by the Department, antidumping duties equal to the amount by which the normal value of the merchandise exceeds the export price (or constructed export price) of the merchandise, for all relevant entries of ammonium sulfate from the PRC. Antidumping duties will be assessed on unliquidated entries of ammonium sulfate from the PRC entered, or withdrawn from warehouse, for consumption on or after November 9, 2016, the date of publication of the AD Preliminary Determination.³

³ See Ammonium Sulfate from the People's Republic of China: Preliminary Determination of Sales at Less Than Fair Value, 81 FR 78776 (November 9, 2016).

Continuation of Suspension of Liquidation (AD)

In accordance with section 735(c)(1)(B) of the Act, we will instruct CBP to continue to suspend liquidation on entries of subject merchandise from the PRC. These instructions suspending liquidation will remain in effect until further notice.

We will also instruct CBP to require cash deposits equal to the amount indicated below. Accordingly, effective on the date of publication of the ITC's final affirmative injury determination, CBP will require, at the same time as importers would normally deposit estimated duties on this subject merchandise, a cash deposit equal to the estimated weighted-average dumping margin listed below. The Department has made no adjustments to the antidumping cash deposit rate because the Department has made no findings in the countervailing duty investigation that any of the programs are export subsidies.⁴

⁴ See AD Final Determination, 82 FR at 8404.

Estimated Weighted-Average Antidumping Duty Margin

The weighted-average antidumping duty margin is as follows:

Exporter/producer | Weighted- average margin (percent)
PRC-Wide Entity | 493.46

Countervailing Duty Order

In accordance with section 705(d) of the Act, the ITC notified the Department of its final determination that the industry in the United States producing ammonium sulfate is materially injured within the meaning of section 705(b)(1)(A)(i) of the Act by reason of subsidized imports of ammonium sulfate from the PRC.⁵ Therefore, in accordance with section 706(a) of the Act, we are publishing this countervailing duty order.

⁵ See ITC Letter.

As a result of the ITC's final determination, in accordance with section 706(a) of the Act, the Department will direct CBP to assess, upon further instruction by the Department, countervailing duties on unliquidated entries of ammonium sulfate entered, or withdrawn from warehouse, for consumption on or after November 2, 2016, the date of publication of the CVD Preliminary Determination.⁶

⁶ See Countervailing Duty Investigation of Ammonium Sulfate from the People's Republic of China: Preliminary Affirmative Determination, 81 FR 76332 (November 2, 2016).

However, section 703(d) of the Act states that the suspension of liquidation pursuant to a preliminary determination may not remain in effect for more than four months. Therefore, entries of ammonium sulfate made on or after March 2, 2017, and prior to the date of publication of the ITC's final determination in the Federal Register, are not liable for the assessment of countervailing duties, due to the Department's discontinuation, effective March 2, 2017, of the suspension of liquidation.

Suspension of Liquidation (CVD)

In accordance with section 706 of the Act, the Department will direct CBP to reinstitute suspension of liquidation, effective on the date of publication of the ITC's notice of final determination in the Federal Register, and to assess, upon further instruction by the Department pursuant to section 706(a)(1) of the Act, countervailing duties for each entry of the subject merchandise in an amount based on the net countervailable subsidy rate for the subject merchandise. The Department will also direct CBP to require a cash deposit for each entry of subject merchandise in an amount equal to the net countervailable subsidy rates listed below. The All-Others rate applies to all producers and exporters of subject merchandise not specifically listed.

Exporter/producer | Subsidy rate (percent)
Wuzhoufeng Agricultural Science & Technology Co. Ltd | 206.72
Yantai Jiahe Agriculture Means of Production Co. Ltd | 206.72
All-Others | 206.72

Notification to Interested Parties

This notice constitutes the AD and CVD orders with respect to ammonium sulfate from the PRC pursuant to sections 736(a) and 706(a) of the Act. Interested parties can find an updated list of orders currently in effect by either visiting http://enforcement.trade.gov/stats/iastats1.html or by contacting the Department's Central Records Unit, Room B8024 of the main Commerce Building.

These orders are published in accordance with sections 706(a), 736(a), and 777(i) of the Act, and 19 CFR 351.211(b).

Dated: March 6, 2017.
Ronald K. Lorentzen,
Acting Assistant Secretary for Enforcement and Compliance.

[FR Doc. 2017-04753 Filed 3-8-17; 8:45 am]

BILLING CODE 3510-DS-P